DEPARTMENT OF HEALTH AND HUMAN SERVICES

Centers for Medicare & Medicaid Services

Notice of Grant Award to Promote Reverse Mortgages for Long-Term Care

AGENCY: Centers for Medicare & Medicaid Services (CMS), HHS.

ACTION: Notice of grant award.

SUMMARY: The Centers for Medicare & Medicaid Services has awarded a grant entitled “A Public-Private Partnership to Promote Reverse Mortgages for Long-Term Care” to the National Council on the Aging (NCOA), 300 D Street SW., Suite 801, Washington, DC 20024, in response to an unsolicited application. The NCOA proposes to work with leaders from the private sector and government to develop a national blueprint for increasing the use of reverse mortgages for long-term care. The total amount of the award is $295,000 for the period September 30, 2003 through May 30, 2004. The encouragement of reverse mortgages as a means of private sector financing of long-term care expenses for the elderly is a priority issue for DHHS, CMS. Funding of this unsolicited proposal will result in a desirable public benefit based on NCOA's extensive specialized expertise in evaluating long-term care services and financing. The NCOA has a professional staff that is dedicated to understanding the myriad of state and Federal regulations that affect long-term care. NCOA also has many years of experience in defining and developing long-term care issues.

FOR FURTHER INFORMATION CONTACT: Tom Kornfield, Project Officer, Department of Health and Human Services, Centers for Medicare & Medicaid Services, DHSR/ORDI, C3-20-17, 7500 Security Boulevard, Baltimore, Maryland, 21244, (410) 786-8263, or Judith Norris, Grants Officer, Department of Health and Human Services, OICS/AGG/CMS, C2-21-15, 7500 Security Boulevard, Baltimore, Maryland, 21244, (410) 786-5130.

Authority: (Catalog of Federal Domestic Assistance Program No. 93.779, Center for Medicare & Medicaid Services, Research, Demonstrations and Evaluations) Section 110 of the Social Security Act.

Dated: October 2, 2003.
Thomas A. Scully,
Administrator, Centers for Medicare & Medicaid Services.

[FR Doc. 03-26458 Filed 10-23-03; 8:45 am]

BILLING CODE 4120-03-P